DEPARTMENT OF HEALTH AND HUMAN SERVICES

Health Resources and Services Administration

Agency Information Collection Activities: Submission to OMB for Review and Approval; Public Comment Request; Public Comment Request; Information Collection Request Title: Health Workforce Connector, OMB No. 0906-0031—Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR must be received no later than November 5, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Health Workforce Connector, OMB No. 0906-0031—Extension.

Abstract: More than just a job search portal, the goal of the Health Workforce Connector (HWC) is to help connect skilled professionals to communities in need by allowing approved Site Points of Contact (POCs), including National Health Service Corps (NHSC) and Nurse Corps, to post available opportunities and update site profiles. The HWC provides a central platform to connect participants, including those in both the NHSC and Nurse Corps programs, and facilities that are approved for performance of their NHSC or Nurse Corps service obligation. The HWC has become a resource that engages any health care professional or student interested in providing primary care services in underserved communities and with facilities in need of health care providers. The Health Workforce Connector also allows users to create a profile, search for NHSC and Nurse Corps sites, find job and training opportunities, search for other clinicians who are similarly interested in working with underserved populations, and be searchable by Site POCs. Individuals can use the Health Workforce Connector's search capability with Google Maps.

The initial estimates of burden, as provided in the previous notice, were developed prior to the deployment of the HWC. Those estimates were accurate, as brand new users created accounts and published profiles. Because the HWC is now in a steady state, actual numbers from the last year allow for projections of comparable numbers for the upcoming year. A more recent data query yielded an estimated burden that is significantly lower due to the total number of users who are estimated to create accounts and publish profiles.

A 60-day notice published in the Federal Register on August 12, 2020, vol. 85, No. 156; pp. 48708-09. There was one public comment.

Need and Proposed Use of the Information: Information will be collected from users in the following two ways:

(1) Account Creation: Creating an account is optional, but to create an account the user will be required to enter their first name, last name, and email address. Those are the only mandatory fields in the profile account creation process and will be used to send an automated email allowing the user to validate their login credentials. This information will also be used to validate any users who already exist within the Bureau of Health Workforce Management Information Systems Solution (BMISS) database and allow an initial import of existing data at the request of the user.

(2) Profile Completion: Users may fill out a profile, but this function will be completely optional and will include fields such as location, discipline, specialty, and languages spoken. The information collected, if `published' by the user, will allow internal BMISS Site POCs the ability to search for anyone who may be a potential candidate for health care job opportunities at the site. Users also have the ability to make their profiles searchable by other end users through a security and privacy setting and can make their profiles private at any time. All information collected will be stored within existing secure BMISS databases and will be used internally for report generation on an as-needed basis.

Likely Respondents: Potential users will include individuals searching for a health care job opportunity or an NHSC or Nurse Corps health care facility, and health care facilities searching for potential candidates to fill open health care job opportunities at their sites.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized burden hours:

Form name | Number of respondents | Number of responses per respondent | Total responses | Average burden per response (in hours) | Total burden hours
Account Creation | 5,008 | 1 | 5,008 | .08 | 400.64
Complete Profile | 4,164 | 1 | 4,164 | 1.00 | 4,164.00
Total | ¹ 5,008 |  | 5,008 |  | 4,564.64
¹ The 4,164 respondents who complete their profiles are a subset of the 5,008 respondents who create accounts.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-22067 Filed 10-5-20; 8:45 am]

BILLING CODE 4165-15-P